DEPARTMENT OF ENERGY

Federal Energy Regulatory Commission

Combined Notice of Filings

Take notice that the Commission has received the following Natural Gas Pipeline Rate and Refund Report filings:

Filings Instituting Proceedings

Docket Numbers: PR18-60-000.

Applicants: The Narragansett Electric Company.

Description: Tariff filing per 284.123(b),(e): Revised Statement of Operating Conditions to be effective8/1/2018.

Filed Date: 6/18/18.

Accession Number: 201806185107.

Comments/Protests Due: 5 p.m. ET7/9/18.

Docket Numbers: PR18-61-000.

Applicants: Columbia Gas of Ohio, Inc.

Description: Tariff filing per 284.123(b),(e)/: COH Rates effective5-31-2018.

Filed Date: 6/21/18.

Accession Number: 201806215079.

Comments/Protests Due: 5 p.m. ET7/12/18.

Docket Numbers: PR18-59-001.

Applicants: Kinder Morgan Tejas Pipeline LLC.

Description: Tariff filing per 284.123(b)(2): Errata to Petition of Approval of Market-Based Rates to be effective 10/1/2018.

Filed Date: 6/19/18.

Accession Number: 201806195074.

Comments/Protests Due: 5 p.m. ET7/10/18.

Docket Numbers: RP18-789-001.

Applicants: Cheniere Corpus Christi Pipeline, LP.

Description: Compliance filing Baseline Compliance Filing RP18-789-000 to be effective 6/1/2018.

Filed Date: 6/21/18.

Accession Number: 20180621-5021.

Comments Due: 5 p.m. ET 7/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2018.
Nathaniel J. Davis, Sr.,
Deputy Secretary.

[FR Doc. 2018-14123 Filed 6-29-18; 8:45 am]

BILLING CODE 6717-01-P